DEPARTMENT OF COMMERCE

International Trade Administration

[A-122-857]

Certain Softwood Lumber Products From Canada: Final Results of Antidumping Duty Administrative Review; 2019; Correction

AGENCY: Enforcement and Compliance, International Trade Administration, Department of Commerce.

ACTION: Notice; correction.

SUMMARY: The U.S. Department of Commerce (Commerce) published notice in the Federal Register on December 2, 2021, in which Commerce announced the final results of the 2019 administrative review of the antidumping duty (AD) order on certain softwood lumber products from Canada. In preparing the liquidation instructions, Commerce discovered that this notice inadvertently listed incorrect names for certain companies under review and incorrectly excluded certain company names.

FOR FURTHER INFORMATION CONTACT: Joshua Jacobson, AD/CVD Operations, Office IV, Enforcement and Compliance, International Trade Administration, U.S. Department of Commerce, 1401 Constitution Avenue NW, Washington, DC 20230; telephone: (202) 482-0266.

SUPPLEMENTARY INFORMATION:

Background

On December 2, 2021, Commerce published in the Federal Register a notice entitled, “Certain Softwood Lumber Products from Canada: Final Results of Antidumping Duty Administrative Review; 2019.” ¹ In this notice, we inadvertently listed incorrect names for certain companies under review and incorrectly excluded the following company names: Olympic Industries Inc-Reman Codes; Olympic Industries ULC-Reman; and Olympic Industries ULC-Reman Code.

¹ See Certain Softwood Lumber Products from Canada: Final Results of Antidumping Duty Administrative Review; 2019, 86 FR 68471 (December 2, 2021); see also See Certain Softwood Lumber Products from Canada: Final Results of Antidumping Duty Administrative Review; 2019; Correction, 87 FR 3762 (January 25, 2022); and Certain Softwood Lumber Products from Canada: Final Results of Antidumping Duty Administrative Review; 2019; Correction, 90 FR 8119 (January 24, 2025).

Correction

In the Federal Register of December 2, 2021, in FR Doc 2021-26149, on page 68474, in the third column, correct the list of companies under review by adding the following three company names: Olympic Industries Inc-Reman Codes; Olympic Industries ULC-Reman; and Olympic Industries ULC-Reman Code.

In the Federal Register of December 2, 2021, in FR Doc 2021-26149, on page 68474, in the third column, correct the following names from “Resolute Growth Canada Inc./Forest Products Mauricie LP, Societe en commandite Scierie Opitciwan/Resolute-LP Engineered Wood Larouche Inc./Resolute-LP Engineered Wood St-Prime Limited Partnership/Resolute FP Canada Inc.” to “Abitibi-LP Engineered Wood II Inc.; Abitibi-LP Engineered Wood Inc.; Forest Products Mauricie LP; Produits Forestiers Petit-Paris Inc.; Societe en commandite Scierie Opitciwan; Resolute Growth Canada Inc.”

In the Federal Register of December 2, 2021, in FR Doc 2021-26149, on page 68475, in the first column, correct the following name from “Sundher Timber Products Ltd.” to “Sundher Timber Products Ltd.; Sundher Timber Products Inc.”

Notification to Interested Parties

This notice is issued and published in accordance with sections 751(a)(1) and 777(i)(1) of the Tariff Act of 1930, as amended, and 19 CFR 351.213(h).

Dated: December 15, 2025.
Christopher Abbott,
Deputy Assistant Secretary for Policy and Negotiations, performing the non-exclusive functions and duties of the Assistant Secretary for Enforcement and Compliance.

[FR Doc. 2025-23498 Filed 12-19-25; 8:45 am]

BILLING CODE 3510-DS-P